DEPARTMENT OF THE INTERIOR

Bureau of Land Management

[AK-910-08-1739-NSSI]

Notice of Public Meeting, North Slope Science Initiative, Science Technical Advisory Panel

AGENCY: Bureau of Land Management, Alaska State Office, North Slope Science Initiative, Interior.

ACTION: Notice of public meeting.

SUMMARY: In accordance with the Federal Land Policy and Management Act (FLPMA) and the Federal Advisory Committee Act of 1972 (FACA), the U.S. Department of the Interior, North Slope Science Initiative (NSSI) Science Technical Advisory Panel (STAP) will meet as indicated below:

DATES: The meeting will be held February 6 and 7, 2008, in Fairbanks, Alaska. On February 6, 2008, the meeting will begin at 9 a.m. at the University of Alaska Fairbanks International Arctic Research Center, Room 401. Public comments will begin at 3 p.m. On February 7, 2008, the meeting will begin at 8:30 a.m. at the same location.

FOR FURTHER INFORMATION CONTACT: John F. Payne, Ph.D., Executive Director, North Slope Science Initiative (910), c/o Bureau of Land Management, 222 W. Seventh Avenue, #13, Anchorage, AK 99513, (907) 271-3431 or e-mail john_f_payne@blm.gov.

SUPPLEMENTARY INFORMATION: The NSSI, STAP provides advice and recommendations to the NSSI Oversight Group (OG) regarding priority needs for management decisions across the North Slope of Alaska. These priority needs may include recommendations on inventory, monitoring, and research activities that lead to informed land management decisions. The topics to be discussed at the meeting include:

• Task orders to the STAP.

• NSSI business processes.

• Project coordination with senior NSSI agency staff.

• NSSI priority issues and projects.

• Other topics the OG or STAP may raise.

All meetings are open to the public. The public may present written comments to the STAP through the NSSI Executive Director. When making public comment, participants should know that their address, phone number, e-mail address, or other personal identifying information in their comment, along with their entire comment, may be made publicly available at any time. Commenters can ask that personal identifying information be withheld from their comments, but this cannot be guaranteed. Depending on the number of persons wishing to comment and time available, the time for individual oral comments may be limited. Individuals who plan to attend and need special assistance, such as sign language interpretation, transportation, or other reasonable accommodations, should contact the NSSI Executive Director.

Dated: December 20, 2007.
Thomas P. Lonnie,
Alaska State Director.

[FR Doc. E7-25393 Filed 12-28-07; 8:45 am]

BILLING CODE 4310-JA-P